DEPARTMENT OF LABOR

Employment and Training Administration

[TA-W-65,254]

Piece Dye Works, Inc., North Bergen, NJ; Notice of Termination of Investigation

Pursuant to Section 221 of the Trade Act of 1974, as amended, an investigation was initiated on February 13, 2009 in response to a petition filed by Unite-Here, New York-New Jersey Regional Joint Board, on behalf of workers of Piece Dye Works, Inc., North Bergen, New Jersey.

The petitioner has requested that the petition be withdrawn. Consequently, the investigation has been terminated.

Signed at Washington, DC, this 25th day of March 2009.
Richard Church,
Certifying Officer, Division of Trade Adjustment Assistance.

[FR Doc. E9-8281 Filed 4-10-09; 8:45 am]

BILLING CODE 4510-FN-P